DEPARTMENT OF TRANSPORTATION

Federal Aviation Administration

14 CFR Part 71

[Docket No. FAA-2006-25922; Airspace Docket No. 06-AWP-17]

RIN 2120-AA66

Establishment of Class E Airspace; Santa Cruz, CA

AGENCY: Federal Aviation Administration (FAA), DOT.

ACTION: Final rule.

SUMMARY: This action establishes a Class E airspace area at Santa Cruz, CA. The establishment of a Special COPTER Area Navigation (RNAV) Global Positioning System (GPS) 040 Point In Space Standard Instrument Approach Procedure (SIAP) and a Special COPTER RNAV (GPS) 227 Departure Procedure serving Dominican Hospital Heliport has made this action necessary. Additional controlled airspace extending upward from 700 feet or more above the surface of the earth is needed to contain helicopters executing the Special COPTER RNAV (GPS) 040 Point In Space SIAP and Special COPTER RNAV (GPS) 227 Departure Procedure to Dominican Hospital Heliport. The intended effect of this proposal is to provide adequate controlled airspace for Instrument Flight Rules (IFR) operations at Dominican Hospital Heliport, Santa Cruz, CA.

DATES: Effective Date: 0901 UTC March 15, 2007. The Director of the Federal Register approves this incorporation by reference action under title 1, Code of Federal Regulations, part 51, subject to the annual revision of FAA Order 7400.9 and publication of conforming amendments.

FOR FURTHER INFORMATION CONTACT: Francie Hope, System Support Specialist, Western Service Area, Federal Aviation Administration, 15000 Aviation Boulevard, Lawndale, California 90261; telephone (310) 725-6502.

SUPPLEMENTARY INFORMATION:

History

On October 27, 2006, the FAA proposed to amend 14 CFR part 71 by establishing a Class E airspace area at Santa Cruz, CA. (71 FR 62954). Additional controlled airspace extending upward from 700 feet above the surface is needed to contain helicopters executing Special COPTER Area Navigation (RNAV) Global Positioning System (GPS) 040 Point In Space Standard Instrument Approach Procedure (SIAP) and a Special COPTER RNAV (GPS) 227 Departure Procedure serving Dominican Hospital Heliport. The intended effect of this proposal is to provide adequate controlled airspace for helicopters executing Special COPTER Area Navigation (RNAV) Global Positioning System (GPS) 040 Point In Space Standard Instrument Approach Procedure (SIAP) and a Special COPTER RNAV (GPS) 040 Point In Space Standard Instrument Approach Procedure (SIAP) and a Special COPTER RNAV (GPS) 227 Departure Procedure serving Dominican Hospital Heliport, Santa Cruz, CA.

Interested parties were invited to participate in this rulemaking proceeding by submitting written comments on the proposal to the FAA. No comments to the proposal were received. Class E airspace designations for airspace extending from 700 feet or more above the surface of the earth are published in paragraph 6005 of FAA Order 7400.9P, dated September 1, 2006, and effective September 15, 2006, which is incorporated by reference in 14 CFR 71.1. The Class E airspace designation listed in this document will be published subsequently in the Order.

The Rule

This amendment to 14 CFR part 71 establishes a Class E airspace area at Santa Cruz, CA. The establishment of a Special COPTER Area Navigation (RNAV) Global Positioning System (GPS) 040 Point In Space Standard Instrument Approach Procedure (SIAP) and a Special COPTER RNAV (GPS) 227 Departure Procedure serving Dominican Hospital Heliport has made this action necessary. The effect of this action will provide adequate controlled airspace for helicopters executing the Special COPTER Area Navigation (RNAV) Global Positioning System (GPS) 040 Point In Space Standard Instrument Approach Procedure (SIAP) and Special COPTER RNAV (GPS) 227 Departure Procedure to Dominican Hospital Heliport, Santa Cruz, CA.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS, ROUTES; AND REPORTING POINTS.

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9P, Airspace Designations and Reporting Points, dated September 1, 2006, and effective September 15, 2006, is amended as follows:

Paragraph 6005 Class E airspace areas extending upward from 700 feet or more above the surface of the earth.

* * * * *

AWP CA E5 Santa Cruz, CA [New]

Dominican Hospital Heliport Point in Space Coordinates

(Lat. 36°58′26″ N., long. 121°59′38″ W.)

That airspace extending upward from 700 feet above the surface and within a 6.5-mile radius of the Point in Space serving the Dominican Hospital Heliport.

* * * * *

Issued in Los Angeles, California on December 20, 2006.
Leonard A. Mobley,
Acting Area Director, Western Terminal Operations.

[FR Doc. 07-7 Filed 1-8-07; 8:45 am]

BILLING CODE 4910-13-M